DEPARTMENT OF DEFENSE

Department of the Army, Corps of Engineers

Intent To Prepare a Supplement to the 1992 Final Environmental Impact Statement on Modified Water Deliveries to Everglades National Park (MWD Project) To Address a Change in Design of the Levee 67 and Levee 29 Water Conveyance Features Within Water Conservation Area 3 (WCA 3), Including a Combined Operational Plan for the MWD and Canal 111 (C-111) Projects

AGENCY: U.S. Army Corps of Engineers, Department of Defense.

ACTION: Notice of intent (amendment).

SUMMARY: Reference the previous Notice of Intent published in the Federal Register of September 24, 1999 (V.64, No. 185: pages 51740-51741). The congressionally authorized MWD Project consists of structural modifications and additions to the existing C&SF Project required to improve water deliveries for ecosystem restoration of Everglades National Park (Park). The authorized plan calls for construction of six water control structures in Levee 67 (L-67) and its adjacent canal, which partition WCA 3 into two basins, WCA 3A and WCA 3B and two recently constructed structures in L-29. At the request of the local sponsor, the South Florida Water Management District (SFWMD), the Corps will be revaluating the design of the water conveyance features and addressing the need for water seepage control for WCA 3B. The authorized C-111 Project consists of Water Pumping Stations and associated canals and water detention areas within the C-111 Basin immediately south of the MWD Project limits down to tidewater. This amendment provides for the addition to the SEIS of a Combined Operational Plan for the MWD and C-111 Projects.

FOR FURTHER INFORMATION CONTACT: U.S. Army Corps of Engineers, P.O. Box 4970, Jacksonville, Florida 32232; Attn: Mr. Elmar Kurzbach, 904-232-2325.

SUPPLEMENTARY INFORMATION: 1. Alternatives to be evaluated involve combinations of gated water control structures, passive structures (fixed-crest weirs), levee removal, and canal filling to convey water from WCA 3A into WCA 3B and from WCA 3B into Northeast Shark River slough and operation of the overall system down to tidewater. Seepage control alternatives involve combinations of new operational and structural elements such as pump stations.

2. A Scoping letter and public Scoping Meeting will be used to invite comments on alternatives and issues from Federal, State, and local agencies, affected Indian tribes, and other interested private organizations and individuals.

3. The Draft SEIS will analyze issues related to recreational fishing access, WCA 3B tree island flooding, introduction of poor quality water, Everglades National Park ecosystem restoration, and agricultural and residential flood protection.

4. The alternative plans will be reviewed under provisions of appropriate laws and regulations, including the Endangered Species Act, Fish and Wildlife Coordination Act, Clean Water Act, and Farmland Protection Policy Act.

5. The Draft SEIS is expected to be available for public review in the 3rd quarter CY 2001.

Dated: December 20, 2000.
James C. Duck,
Chief, Planning Division.

[FR Doc. 01-770 Filed 1-9-01; 8:45 am]

BILLING CODE 3710-AJ-M